DEPARTMENT OF TRANSPORTATION

Federal Aviation Administration

[Docket No: FAA-2016-6596]

Passenger Facility Charge (PFC) Program: Eligibility of Ground Access Projects Meeting Certain Criteria

AGENCY: Federal Aviation Administration (FAA), DOT.

ACTION: Notice of availability of the Passenger Facility Charge (PFC) Update 75-21: Eligibility of on-airport rail access projects.

SUMMARY: FAA is announcing the availability of PFC Update 75-21 that makes rail lines that do not exclusively serve the airport PFC eligible, and provides several methodologies for calculating the PFC-eligible costs.

DATES: This PFC update on the use of PFC funding for on-airport, rail access projects was effective on January 12, 2021.

ADDRESSES: To access the PFC update, please use: https://www.faa.gov/airports/pfc/pfc_updates/.

FOR FURTHER INFORMATION CONTACT: Dennis Walsh, Financial Analysis and Passenger Facility Charge Branch, APP-510, Federal Aviation Administration, 800 Independence Avenue SW, Washington, DC 20591, telephone (202) 267-9593; facsimile (202) 267-5302.

SUPPLEMENTARY INFORMATION: Section 123 of the FAA Reauthorization Act of 2018 (Pub. L. 115-254) required FAA to publish in the Federal Register a final policy amendment consistent with the notice published in the Federal Register on May 3, 2016 (81 FR 26611). On January 12, 2021, FAA issued a final policy amendment on the eligibility of on-airport rail access projects.

This PFC update amends FAA policy previously published in 2004, Notice of Policy Regarding Eligibility of Airport Ground Access Transportation Projects for Funding Under the Passenger Facility Charge Program (69 FR 6366) (the 2004 Policy), to make rail lines that do not exclusively serve the airport PFC eligible, and provides several methodologies for calculating the PFC-eligible costs. The FAA will apply the 2004 Policy to all other ground access projects using PFC funds. FAA has posted PFC Update 75-21: Eligibility of on-airport rail access projects on the FAA Office of Airports website: https://www.faa.gov/airports/pfc/pfc_updates/.

Issued in Washington, DC, on August 25, 2021.
Robert J. Craven,
Director of Airport Planning and Programming.

[FR Doc. 2021-18684 Filed 8-30-21; 8:45 am]

BILLING CODE 4910-13-P